ENVIRONMENTAL PROTECTION AGENCY

40 CFR Part 63

[EPA-HQ-OAR-2016-0442; FRL-9981-06-OAR]

RIN 2060-AS92

National Emission Standards for Hazardous Air Pollutants From the Portland Cement Manufacturing Industry Residual Risk and Technology Review

Correction

In rule document 2018-15718 beginning on page 35122 in the issue of Wednesday, July 25, 2018, make the following correction:

Table 1 to Subpart LLL of Part 63 [Corrected]

On page 35135, the table should read as set forth below:

Table 1 to Subpart LLL of Part 63—Applicability of General Provisions
Citation | Requirement | Applies to subpart LLL | Explanation
* * * * * * *
63.10(e)(3)(v) | Due Dates for Excess Emissions and CMS Performance Reports | No | § 63.1354(b)(9) specifies due date.
* * * * * * *

[FR Doc. C1-2018-15718 Filed 8-2-18; 8:45 am]

BILLING CODE 1301-00-D